POSTAL SERVICE

Office of Inspector General

Privacy Act of 1974; Computer-Matching Program

AGENCY: Office of Inspector General, Postal Service.

ACTION: Notice of computer-matching program.

SUMMARY: Subsection (e)(12) of the Privacy Act of 1974, as amended (5 U.S.C. 552a), requires agencies to publish advance notice of any proposed or revised computer-matching program for comment. The United States Postal Service (Postal Service), Office of Inspector General (OIG) is issuing notice of its intent to conduct a computer-matching program with the United States Department of Labor Office of Workers' Compensation Programs. The primary purpose of this matching agreement is to determine whether the current Postal Service automated and manual procedures for monitoring Federal Employees' Compensation Act (FECA) benefits payments made to employees returning to work are operating effectively. A secondary purpose of this matching agreement is to identify those Postal Service employees who may have received dual benefits in violation of section 81161(a) of the FECA. Except as otherwise provided by law, the Department of Labor Office of Workers' Compensation Programs has the exclusive authority to administer, interpret, and enforce the provisions of the FECA.

DATES: Comments must be received no later than January 2, 2001. Unless comments are received that result in a contrary determination, the matching program covered by this notice will begin as stated in the paragraph “Dates of the Matching Program” in the Supplementary Information section of this notice.

ADDRESSES: Comments may be mailed to the Director, Legal Services, United States Postal Service, Office of Inspector General, 1735 N. Lynn Street, Arlington, VA, 22209-2020; or delivered to Room 10.006 at the above address between 9 a.m. and 4 p.m., Monday through Friday. Comments received may also be inspected during the above hours in the 10th floor reception area.

FOR FURTHER INFORMATION CONTACT: Gladis Griffith, Director, Legal Services, at 703-248-2100.

SUPPLEMENTARY INFORMATION: Pursuant to subsection (o) of the Privacy Act of 1974, as amended (5 U.S.C. 552a), the OIG and the Department of Labor Office of Workers' Compensation Programs will enter into an agreement to conduct a computer-matching program. The computer-matching program, described below, will be conducted in accordance with paragraph 4d of Appendix I to the Office of Management and Budget (OMB) Circular No. A-130, Federal Agency Responsibilities for Maintaining Records About Individuals, February 8, 1996 (61 FR 6427).

a. Participating Agencies: OIG (recipient agency) and Department of Labor Office of Workers' Compensation Programs.

b. Purpose of the Matching Program: The primary purpose of this matching agreement is to determine whether the current Postal Service automated and manual procedures for monitoring FECA benefits payments made to employees returning to work are operating effectively. A secondary purpose of this matching agreement is to identify those Postal Service employees who may have received dual benefits in violation of section 8116(a) of the FECA. The names and other identifying information of employees suspected of receiving dual benefits will be given to the Postal Service Injury Compensation Offices to determine whether appropriate action has in fact been taken regarding the propriety of the dual payments. If no action has been taken, appropriate steps will be followed to remedy the failure to act.

c. Legal Authorities Authorizing Operation of the Match: 39 U.S.C. 404 (Postal Reorganization Act); the Inspector General Act, as amended, 5 U.S.C. Appendix 3; and the Privacy Act of 1974, as amended, 5 U.S.C. 552a.

d. Categories of Individuals Matched and Identification of Records Used: (1) Postal Service employee data records within the Privacy Act system of records, United States Postal Service 050.020, Finance Records-Payroll System (57 FR 57515), and (2) Department of Labor Office of Workers' Compensation Programs system of records published as DOL/GOVT-1, entitled Office of Workers' Compensation Programs, Federal Employees' Compensation File (58 FR 49548), as amended (59 FR 47361).

e. Dates of the Matching Program: This matching program is expected to begin in December 2000 and to continue in effect for 18 months unless terminated earlier by either party. Matching activity under this program will begin no sooner than 40 days after the last of the following occurs: (1) Publication of this notice, (2) transmittal of this matching agreement to Congress, or (3) report of the matching program to OMB and to Congress.

Stanley F. Mires,
Chief Counsel, Legislative.

[FR Doc. 00-30583 Filed 11-30-00; 8:45 am]

BILLING CODE 7710-12-U